DEPARTMENT OF COMMERCE

National Oceanic and Atmospheric Administration

[RTID 0648-XB290]

Pacific Island Fisheries; Marine Conservation Plan for American Samoa; Western Pacific Sustainable Fisheries Fund

AGENCY: National Marine Fisheries Service (NMFS), National Oceanic and Atmospheric Administration (NOAA), Commerce.

ACTION: Notice of agency decision.

SUMMARY: NMFS announces approval of a marine conservation plan (MCP) for American Samoa.

DATES: This agency decision is effective from July 25, 2021, through July 24, 2024.

ADDRESSES: You may obtain a copy of the MCP, identified by NOAA-NMFS-2021-0069, from the Federal e-Rulemaking Portal, https://www.regulations.gov/docket/NOAA-NMFS-2021-0069, or from the Western Pacific Fishery Management Council (Council), 1164 Bishop St., Suite 1400, Honolulu, HI 96813, tel 808-522-8200, http://www.wpcouncil.org.

FOR FURTHER INFORMATION CONTACT: Kate Taylor, Sustainable Fisheries, NMFS Pacific Island Regional Office, 808-725-5182.

SUPPLEMENTARY INFORMATION: Section 204(e) of the Magnuson-Stevens Fishery Conservation and Management Act (Magnuson-Stevens Act) authorizes the Secretary of State, with the concurrence of the Secretary of Commerce (Secretary) and in consultation with the Council, to negotiate and enter into a Pacific Insular Area fishery agreement (PIAFA). A PIAFA would allow foreign fishing within the U.S. Exclusive Economic Zone (EEZ) adjacent to American Samoa, Guam, or the Northern Mariana Islands. The Governor of the Pacific Insular Area to which the PIAFA applies must request the PIAFA. The Secretary of State may negotiate and enter the PIAFA after consultation with, and concurrence of, the applicable Governor.

Before entering into a PIAFA, the applicable Governor, with concurrence of the Council, must develop and submit to the Secretary a three-year MCP for review and approval. The MCP must provide details on the uses for any funds collected by the Secretary. NMFS is the designee of the Secretary for MCP review and approval. The Magnuson-Stevens Act requires payments received under a PIAFA to be deposited into the United States Treasury and then conveyed to the Treasury of the Pacific Insular Area for which funds were collected.

In the case of violations by foreign fishing vessels in the EEZ around any Pacific Insular Area, amounts received by the Secretary attributable to fines and penalties imposed under the Magnuson-Stevens Act (including sums collected from the forfeiture and disposition or sale of property seized subject to its authority) are deposited into the Treasury of the Pacific Insular Area adjacent to the EEZ in which the violation occurred, after direct costs of the enforcement action are subtracted. The Pacific Insular Area government may use funds deposited into the treasury of the Pacific Insular Area for fisheries enforcement and for implementation of an MCP.

Federal regulations at 50 CFR 665.819 authorize NMFS to specify catch limits of longline-caught bigeye tuna for U.S. territories. NMFS may also authorize each territory to allocate a portion of that limit to U.S. longline fishing vessels that are permitted to fish under the Fishery Ecosystem Plan for Pelagic Fisheries of the Western Pacific (FEP). Payments collected under specified fishing agreements are deposited into the Western Pacific Sustainable Fisheries Fund. Any funds attributable to a particular fund, and any funds attributable to a particular territory, may be used only for implementation of that territory's MCP.

An MCP must be consistent with the Council's FEPs, must identify conservation and management objectives (including criteria for determining when such objectives are met), and must prioritize planned marine conservation projects. At its June 2021 meeting, the Council reviewed and concurred with the American Samoa MCP. On July 21, 2021, the Governor of American Samoa submitted the MCP to NMFS for review and approval. The following briefly describes the objectives of the MCP. Please refer to the MCP for planned projects and activities designed to meet each objective, the evaluative criteria, and priority ranking. The MCP contains six conservation and management objectives, listed below.

1. Maximize social and economic benefits through sustainable fisheries;

2. Support quality scientific research to assess and manage fisheries;

3. Promote an ecosystem approach in fisheries management;

4. Recognize the importance of island culture and traditional fishing in managing fishery resources and foster opportunities for participation;

5. Promote education and outreach activities and regional collaboration regarding fisheries conservation;

6. Encourage development of technologies and methods to achieve the most effective level of enforcement and to ensure safety at sea.

This notice announces that NMFS has reviewed the MCP, and has determined that it satisfies the requirements of the Magnuson-Stevens Act. Accordingly, NMFS has approved the MCP for the 3-year period from July 25, 2021, through July 24, 2024. This MCP supersedes the MCP previously approved for the period July 25, 2018, through July 24, 2021 (83 FR 42490, August 22, 2018).

Dated: July 29, 2021.
Jennifer M. Wallace,
Acting Director, Office of Sustainable Fisheries, National Marine Fisheries Service.

[FR Doc. 2021-16667 Filed 8-4-21; 8:45 am]

BILLING CODE 3510-22-P